DEPARTMENT OF COMMERCE

International Trade Administration

Export Trade Certificate of Review

ACTION: Notice of application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Jeffrey C. Anspacher, Director, Office of Export Trading Company Affairs, International Trade Administration, by telephone at (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private, treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination of whether a Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230, or transmitted by e-mail to oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 03-00007.” A summary of the application follows.

Summary of the Application

Applicant: The Great Lakes Fruit Exporters Association, LLC, (GLFEA), 4949 North Branch Road, Benton Harbor, MI 49022, Contact: Denise Yockey, Telephone: (517) 336-4626.

Application No.: 03-00007.

Date Deemed Submitted: October 21, 2003.

GLFEA is a Limited Liability Company formed under the laws of the state of Michigan. Members (in addition to applicant): Greg Orchards and Produce, Inc. Benton Harbor, MI; Riveridge Produce Marketing, Inc., Sparta, MI; North Bay Produce, Inc., Traverse City, MI; Applewood Orchards, Inc., Deerfield, MI; Heeren Brothers Inc., d/b/a/ Heeren Brothers Produce, Grand Rapids, MI; Greenridge Fruit, Inc., Grand Rapids, MI; Jack Brown Produce, Inc., Sparta, MI; BelleHarvest Sales, Inc., Belding, MI; A.J.’s Produce Inc., Casnovia, MI; Appltree Marketing LLC, Ada, MI.

GLFEA seeks a Certificate to cover the following specific Export Trade, Export Markets, and Export Trade Activities and Methods of Operations.

Export Trade

1. Products

Fresh Apples.

2. Services

All export-related services, including, but not limited to, international market research, marketing, advertising, sales promotion, brokering, handling, transportation, common marking and identification, communication and processing of foreign orders to and for Members, financing, export licensing and other trade documentation, warehousing, shipping, legal assistance, foreign exchange and taking title to goods.

3. Technology Rights

Technology Rights, including, but not limited to, patents, trademarks, copyrights and trade secrets that relate to Products and Services.

4. Export Trade Facilitation Services (as They Relate to the Export of Products, Services and Technology Rights)

Export Trade Facilitation Services, including, but not limited to, professional services and assistance relating to: Government relations; State and Federal export programs; foreign trade and business protocol; consulting; market research and analysis; collection of information on trade opportunities; marketing; negotiations; joint ventures; shipping and export management; export licensing; advertising; documentation and services related to compliance with customs requirements; insurance and financing; trade show exhibitions; organizational development; management and labor strategies; transfer of technology; transportation services; and the formation of shippers' associations.

Export Markets

The Export Markets include all parts of the world except the United States (the fifty States of the United States, the District of Columbia, the Commonwealth of Puerto Rico, the Virgin Islands, American Samoa, Guam, the Commonwealth of the Northern Mariana Islands, and the Trust Territory of the Pacific Islands).

Export Trade Activities and Methods of Operation

1. With respect to the sale of Products and Services, licensing of Technology Rights and provisions of Export Trade Facilitation Services, GLFEA on its own or on behalf of any of its members may:

a. Establish sale prices, minimum sale prices, target sale prices and/or minimum target sale prices and other terms of sale in export markets;

b. Conduct marketing and distribution of fresh apples in export markets;

c. Conduct promotion of fresh apples;

d. Agree on quantities of fresh apples to be sold provided that each member shall be required to dedicate only that quantity or quantities as each Member shall independently determine.

e. Allocate geographic areas or countries in the export markets and/or customers in export markets among members.

f. Refuse to quote prices for fresh apples, or to market or sell fresh apples, to or for any customers in the export markets, or any countries or geographic areas in the export markets.

g. Enter into exclusive and nonexclusive agreements appointing one or more export intermediaries for the sales of fresh apples with price, quantity, territorial and/or customer restrictions as provided above.

2. GLFEA and it Members may exchange and discuss the following information:

a. Information about sale and marketing efforts for the export markets, activities and opportunities for sales of fresh apples in the export markets, selling strategies for the export markets, sales for the export markets, contract and spot pricing in the export markets, projected demands in the export markets for fresh apples, customary terms of sale in the export markets, prices and availability of fresh apples from competitors for sale in the export markets, and specifications for fresh apples by customers in the export markets.

b. Information about the price, quality, quantity, source, and delivery dates of fresh apples available from the Members to export.

c. Information about terms and conditions of contracts for sale in the export markets to be considered and/or bid on by The Great Lakes Fruit Exporters Association and its Members.

d. Information about joint bidding or selling arrangements for the export markets and allocations of sales resulting from such arrangements among the Members.

e. Information about expenses specific to exporting to and within the export markets, including without limitation, transportation, trans-or intermodel shipments, insurance, inland freights to port, port storage, commissions, export sales, documentation, financing, customs, duties, and taxes.

f. Information about U.S. and foreign legislation and regulations, including Federal marketing order programs, affecting sales for the export markets.

g. Information about The Great Lakes Fruit Exporters Association or its Members' export operations, including without limitation, sales and distribution networks established by The Great Lakes Fruit Exporters Association or its Members in the export markets, and prior export sales by Members (including export price information).

h. Information about export customer credit terms and credit history.

3. The Great Lakes Fruit Exporters Association and its Members may meet to engage in the activities described in paragraphs 1 and 2 above.

Definitions

1. “Supplier” means a person who produces, provides, or sells a Product and/or Service.

Dated: October 29, 2003.
Jeffrey C. Anspacher,
Director, Office of Export Trading Company Affairs.

[FR Doc. 03-27722 Filed 11-4-03; 8:45 am]

BILLING CODE 3510-DR-P